DEPARTMENT OF HOMELAND SECURITY

Coast Guard

33 CFR Part 117

[Docket No. USCG-2014-0418]

Drawbridge Operation Regulation; Trent River, New Bern, NC

AGENCY: Coast Guard, DHS.

ACTION: Notice of deviation from regulation.

SUMMARY: The Coast Guard has issued a temporary deviation from the operating schedule of the US 70/Alfred C. Cunningham Bridge across the Trent River mile 0.0, at New Bern, NC. The deviation is necessary to facilitate the annual Bike Multiple Sclerosis (MS): Historic New Bern Ride. This deviation allows the bridge to remain in the closed position so that cyclists can safely exit Union Point Park and enter the bike route.

DATES: This deviation is effective from 8 a.m. to 9:30 a.m. on September 6, 2014 and again from 8 a.m. to 9:30 a.m. on September 7, 2014.

ADDRESSES: Documents mentioned in this preamble as being available in the docket are part of docket USCG-2014-0418 and are available online by going to http://www.regulations.gov, inserting USCG-2014-0418 in the “Search” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mrs. Kashanda L. Booker, Bridge Management Specialist, Fifth District; Coast Guard; telephone 757-398-6227, email Kashanda.L.Booker@uscg.mil. If you have questions on viewing the docket, Cheryl Collins, Program Manager, Docket Operations, 202-366-9826.

SUPPLEMENTARY INFORMATION: The Event Director for the Bike MS: Historic New Bern Ride along with approval from the North Carolina Department of Transportation, owner of the drawbridge, has requested a temporary deviation from the current operating schedule to accommodate the MS Bike Ride.

The US 70/Alfred C. Cunningham Bridge across the Trent River, mile 0.0, a double-leaf bascule drawbridge, in New Bern, NC, has a vertical clearance in the closed position of 14 feet, above mean high water. Under the normal operating schedule, the US 70/Alfred C. Cunningham Bridge would open on signal during this timeframe. However, under this temporary deviation, the drawbridge will be allowed to remain in the closed-to-navigation position from 8 a.m. to 9:30 a.m. on Saturday, September 6, 2014; and from 8 a.m. to 9:30 a.m. on Sunday, September 7, 2014 to accommodate the Bike MS: Historic New Bern Bike Ride.

Vessels that can pass under the bridge without a bridge opening may do so at all times. There are no alternate routes for vessels and the bridge will be able to open in the event of an emergency. The Coast Guard will inform the users of the waterway through our Local and Broadcast Notices to Mariners of the closure periods so that vessels can plan their transits to minimize any impact caused by the temporary deviation. At all other times during the affected period, the bridge will operate as outlined at 33 CFR 117.843(a).

In accordance with 33 CFR 117.35(e), the drawbridge must return to its regular operating schedule immediately at the end of the designated time period. This deviation from the operating regulations is authorized under 33 CFR 117.35.

Dated: June 2, 2014.
Waverly W. Gregory, Jr.,
Bridge Program Manager, Fifth Coast Guard District.

[FR Doc. 2014-13754 Filed 6-11-14; 8:45 am]

BILLING CODE 9110-04-P